DEPARTMENT OF LABOR

Employment and Training Administration

[TA-W-52,652]

Snap-on Tools, Mt. Carmel, Illinois; Notice of Termination of Investigation

Pursuant to section 221 of the Trade Act of 1974, as amended, an investigation was initiated on August 21, 2003, in response to a worker petition filed by company officials on behalf of workers at Snap-on Tools, Mt. Carmel, Illinois.

The company has requested that the petition be withdrawn. Consequently, the investigation has been terminated.

Signed at Washington, DC, this 8th day of September, 2003.
Elliott S. Kushner,
Certifying Officer, Division of Trade Adjustment Assistance.

[FR Doc. 03-25723 Filed 10-9-03; 8:45 am]

BILLING CODE 4510-30-P